DEPARTMENT OF HEALTH AND HUMAN SERVICES

National Committee on Vital and Health Statistics; Meeting

AGENCY: Centers for Disease Control and Prevention, HHS.

ACTION: Notice of meeting.

SUMMARY: Pursuant to the Federal Advisory Committee Act, the Department of Health and Human Services (HHS) announces the following advisory committee meeting. This meeting is open to the public. The public is welcome to attend in person or virtually by following the instructions posted on the website: https://ncvhs.hhs.gov/meetings/full-committee-meeting-14/.

Name: National Committee on Vital and Health Statistics (NCVHS) Meeting.

DATES:

Wednesday, July 19, 2023: 9:15 a.m.-5:30 p.m. EDT.

Thursday, July 20, 2023: 8:45 a.m.-2:45 p.m. EDT.

ADDRESSES: Hubert H. Humphrey Building (HHS Headquarters), 200 Independence Avenue SW, Room 505-A, Washington, DC 20201.

Registration is not required for in-person attendance; however, it is strongly encouraged to expedite entry through building security. A valid form of U.S. ID is required for in-person attendance.

FOR FURTHER INFORMATION CONTACT: Substantive program information may be obtained from Rebecca Hines, MHS, Executive Secretary, NCVHS, National Center for Health Statistics, Centers for Disease Control and Prevention, 3311 Toledo Road, Hyattsville, Maryland 20782, or via electronic mail to vgh4@cdc.gov; or by telephone (301) 458-4715. Summaries of meetings and a roster of Committee members are available on the NCVHS website https://ncvhs.hhs.gov/, where further information including an agenda and instructions to access the broadcast of the meeting will be posted.

Should you require reasonable accommodation, please telephone the CDC Office of Equal Employment Opportunity at (770) 488-3210 as soon as possible.

SUPPLEMENTARY INFORMATION:

Purpose: As outlined in its Charter, the National Committee on Vital and Health Statistics assists and advises the Secretary of HHS on health data, data standards, statistics, privacy, national health information policy, and the Department's strategy to best address those issues.¹ Under the Health Insurance Portability and Accountability Act of 1996 (HIPAA),² NCVHS advises the Secretary on administrative simplification standards, including those for privacy, security, adoption and implementation of transaction standards, unique identifiers, code sets, and operating rules adopted under the Patient Protection and Affordable Care Act (ACA).³

¹ The original authorities of NCVHS are described at 42 U.S. Code § 242k.

² Public Law 104-191, 110 Stat. 1936 (Aug 21, 1996), available at https://www.congress.gov/104/plaws/publ191/PLAW-104publ191.pdf.

³ Public Law 111-148, 124 Stat. 119 (Mar. 23, 2010), available at https://www.congress.gov/111/plaws/publ148/PLAW-111publ148.pdf.

The meeting agenda will include time to introduce six new members recently appointed to serve on the Committee, continue with activities outlined in the NCVHS 2023 workplan, and hold discussions on several health data policy topics, including a briefing on conversational artificial intelligence (AI).

The NCVHS Workgroup on Timely and Strategic Action to Inform ICD-11 Policy for morbidity will report to the full Committee on activities leading up to the August 3, 2023, Expert Roundtable meeting. The National Center for Health Statistics will provide an update on implementation of ICD-11 for mortality.

The Subcommittee on Privacy, Confidentiality and Security will host panel briefings on Privacy and Reproductive Health with invited experts. The Subcommittee on Standards will report on its “Convergence 2.0” activities in light of completion of recommendations to the Department approved at the June 14, 2023, meeting of the full Committee. Finally, the Committee will allot time to discuss language for inclusion in the Committee's 2023 Report to Congress.

The Committee will reserve time on the agenda for public comment. Meeting times and topics are subject to change. Please refer to the agenda posted on the NCVHS website for updates: https://ncvhs.hhs.gov/meetings/full-committee-meeting-14/.

Sharon Arnold,
Associate Deputy Assistant Secretary, Office of Science and Data Policy, Office of the Assistant Secretary for Planning and Evaluation.

[FR Doc. 2023-14284 Filed 7-6-23; 8:45 am]

BILLING CODE 4150-05-P